DEPARTMENT OF VETERANS AFFAIRS

[OMB Control No. 2900-0143]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before August 23, 2004.

FOR FURTHER INFORMATION CONTACT: Denise McLamb, Records Management Service (005E3), Department of Veterans Affairs, 810 Vermont Avenue, NW., or e-mail denise.mclamb@mail.va.gov. Please refer to “OMB Control No. 2900-0143.” Send comments and recommendations concerning any aspect of the information collection to VA's OMB Desk Officer, OMB Human Resources and Housing Branch, New Executive Office Building, Room 10235, Washington, DC 20503 (202) 395-7316. Please refer to “OMB Control No. 2900-0143” in any correspondence.

SUPPLEMENTARY INFORMATION: Title: Offer to Rent on Month-To-Month Basis and Credit Statement of Prospective Tenant, VA Form 26-6725.

OMB Control Number: 2900-0143.

Type of Review: Extension of a currently approved collection.

Abstract: VA Form 26-6725 is used to establish the landlord-tenant relationship when properties acquired by VA, through operation of the guaranteed and direct home loan programs, are rented. The form serves as a credit statement and rental offer executed by prospective tenants of properties owned by VA. VA may rent properties acquired through guaranteed and direct home loan programs when there is little likelihood, because of market conditions, or an early sale and/or prolonged vacancy may encourage vandalism. VA Form 26-6725 states the responsibilities of the parties, evidence of tender and acceptance of rental payments, and provides credit information for evaluating the prospective tenant's ability to meet rental payments.

An agency may not conduct or sponsor, and a person is not required to respond to a collection of information unless it displays a currently valid OMB control number. The Federal Register notice with a 60-day comment period soliciting comments on this collection of information was published on April 06, 2004, at pages 18156-18157.

Affected Public: Individuals or households, Business or other for-profit.

Estimated Annual Burden: 33 hours.

Estimated Average Burden Per Respondent: 20 minutes.

Frequency of Response: On occasion.

Estimated Number of Respondents: 100.

Dated: July 12, 2004.
By direction of the Secretary.
Loise Russell,
Director, Records Management Service.

[FR Doc. 04-16700 Filed 7-21-04; 8:45 am]

BILLING CODE 8320-01-P